DEPARTMENT OF TRANSPORTATION

Federal Aviation Administration

14 CFR Part 39

[Docket No. 2002-CE-08-AD; Amendment 39-12914; AD 2002-21-08]

RIN 2120-AA64

Airworthiness Directives; Pilatus Aircraft Ltd. Model PC-6 Airplanes

AGENCY: Federal Aviation Administration, DOT.

ACTION: Final rule.

SUMMARY: This amendment adopts a new airworthiness directive (AD) that applies to certain Pilatus Aircraft Ltd. (Pilatus) Model PC-6 airplanes. This AD requires you to inspect the aileron assembly for correct configuration and modify as necessary. This AD is the result of mandatory continuing airworthiness information (MCAI) issued by the airworthiness authority for Switzerland. The actions specified by this AD are intended to correct improper aileron assembly configuration, which could result in failure of the aileron mass balance weight. Such failure could lead to loss of control of the airplane.

DATES: This AD becomes effective on December 6, 2002.

The Director of the Federal Register approved the incorporation by reference of certain publications listed in the regulations as of December 6, 2002.

ADDRESSES: You may get the service information referenced in this AD from Pilatus Aircraft Ltd., Customer Liaison Manager, CH-6371 Stans, Switzerland; telephone: +41 41 619 63 19; facsimile: +41 41 619 6224; or from Pilatus Business Aircraft Ltd., Product Support Department, 11755 Airport Way, Broomfield, Colorado 80021; telephone: (303) 465-9099; facsimile: (303) 465-6040. You may view this information at the Federal Aviation Administration (FAA), Central Region, Office of the Regional Counsel, Attention: Rules Docket No. 2002-CE-08-AD, 901 Locust, Room 506, Kansas City, Missouri 64106; or at the Office of the Federal Register, 800 North Capitol Street, NW., suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

The Federal Office for Civil Aviation (FOCA), which is the airworthiness authority for Switzerland, recently notified FAA that an unsafe condition may exist on certain Pilatus Model PC-6 airplanes. The FOCA reported an instance where unapproved mass balance weights and an improper aileron configuration were found on a Model PC-6 airplane. The FOCA determined the cause as improper configuration control and tracking.

What Is the Potential Impact if FAA Took No Action?

This condition, if not corrected, could result in failure of the aileron mass balance weights. Such failure could lead to loss of control of the airplane.

Has FAA Taken Any Action to This Point?

We issued a proposal to amend part 39 of the Federal Aviation Regulations (14 CFR part 39) to include an AD that would apply to certain Pilatus Model PC-6 airplanes. This proposal was published in the Federal Register as a notice of proposed rulemaking (NPRM) on August 19, 2002 (67 FR 53761). The NPRM proposed to inspect the aileron assembly for correct configuration and modify as necessary.

Was the Public Invited to Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

• Provide the intent that was proposed in the NPRM for correcting the unsafe condition; and

• Do not add any additional burden upon the public than was already proposed in the NPRM.

Cost Impact

How Many Airplanes Does This AD Impact?

We estimate that this AD affects 35 airplanes in the U.S. registry.

What is the Cost Impact of This AD on Owners/Operators of the Affected Airplanes?

We estimate the following costs to accomplish the inspection:

Labor cost | Parts cost | Total cost per airplane | Total cost on U.S. operators
1 workhour × $60 per hour = $60 | No parts required | $60 | $60 × 35 = $2,100.

We estimate the following costs to accomplish any necessary modifications that would be required based on the results of the inspection. We have no way of determining the number of airplanes that may need such modification:

Labor cost | Parts cost | Total cost per airplane
16 workhours × $60 = $960 | $419 | $419 + $960 = $1,379.

Compliance Time of This AD

What Will Be the Compliance Time of This AD?

The compliance time of this AD is “within the next 30 days after the effective date of this AD.”

Why Is the Compliance Time Presented in Calendar Time Instead of Hours Time-in-service (TIS)?

This unsafe condition is not a result of the number of times the airplane is operated. The chance of this situation occurring is the same for an airplane with 10 hours time-in-service (TIS) as it would be for an airplane with 500 hours TIS. For this reason, the FAA has determined that a compliance based on calendar time should be utilized in this AD in order to assure that the unsafe condition is addressed on all airplanes in a reasonable time period.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-21-08 Pilatus Aircraft Ltd.: Amendment 39-12914; Docket No.

2002-CE-08-AD.

(a) What airplanes are affected by this AD? This AD affects Model PC-6 airplanes, all manufacturer serial numbers (MSN) up to and including 939, that are certificated in any category.

(b) Who must comply with this AD? Anyone who wishes to operate any of the airplanes identified in paragraph (a) of this AD must comply with this AD.

(c) What problem does this AD address? The actions specified by this AD are intended to correct improper aileron assembly configuration, which could result in failure of the aileron mass balance weight. Such failure could lead to loss of control of the airplane.

(d) What actions must I accomplish to address this problem? To address this problem, you must accomplish the following:

Actions | Compliance | Procedures
(1) Inspect the aileron assembly for proper configuration | Within the next 30 days after December 6, 2002 (the effective date of this AD), unless already accomplished | In accordance with Pilatus Service Bulletin No. 62B, dated May 1967, as in Pilatus PC-6 Service Bulletin No. 57-001, dated December 20, 2001.
(2) If the aileron assembly configuration incorporates aileron part number (P/N) 6106.10.xxx or P/N 6106.0010.xxx modifying the assembly in accordance with Pilatus Service Bulletin No. 62B, dated May 1967, and install a placard | Prior to further flight after the inspection required in paragraph (d)(1) of this AD, unless already accomplished | Modify in accordance with Pilatus Service Bulletin No. 62B, dated May 1967. Install the placard in accordance with Pilatus PC-6 Service Bulletin No. 57-001, dated December 20, 2001.
(3) If the aileron assembly configuration differs from that specified in Pilatus Service Bulletin No. 62B, dated May 1967, or if the part numbers are missing and cannot be verified: (i) obtain a repair scheme from the manufacturer through the FAA at the address specified in paragraph (f) of this AD; and (ii) incorporate this repair scheme | Prior to further flight after the inspection required in paragraph (d)(1) of this AD, unless already accompished | In accordance with Pilatus PC-6 Service Bulletin No. 57-001, dated December 20, 2001.
(4) Do not install any aileron assembly unless the inspection, modification, placard, and repair requirements (as applicable) of paragraphs (d)(1), (d)(2), (d)(3), (d)(3)(i), and (d)(3)(ii) of this AD are accomplished | As of December 6, 2002 (the effective date of this AD) | In accordance with Pilatus PC-6 Service Bulletin No. 57-001, dated December 20, 2001.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Pilatus Service Bulletin No. 62B, dated May 1967, and Pilatus PC-6 Service Bulletin No. 57-001, dated December 20, 2001. The Director of the Federal Register approved this incorporation by reference under 5 U.S.C. 552(a) and 1 CFR part 51. You may get copies from Pilatus Aircraft Ltd., Customer Liaison Manager, CH-6371 Stans, Switzerland; telephone: +41 41 619 6319; facsimile: +41 41 619 6224; or from Pilatus Business Aircraft Ltd., Product Support Department, 11755 Airport Way, Broomfield, Colorado 80021; telephone: (303) 465-9099; facsimile: (303) 465-6040. You may view copies at the FAA, Central Region, Office of the Regional Counsel, 901 Locust, Room 506, Kansas City, Missouri, or at the Office of the Federal Register, 800 North Capitol Street, NW, suite 700, Washington, DC.

Note 2: The subject of this AD is addressed in Swiss AD HB 2002-001, dated February 8, 2002.

(i) When does this amendment become effective? This amendment becomes effective on December 6, 2002.

Issued in Kansas City, Missouri, on October 9, 2002.
Michael Gallagher,
Manager, Small Airplane Directorate, Aircraft Certification Service.

[FR Doc. 02-26589 Filed 10-18-02; 8:45 am]

BILLING CODE 4910-13-P